DEPARTMENT OF COMMERCE

International Trade Administration

[A-489-805]

Certain Pasta From Turkey: Preliminary Rescission of Antidumping Duty New Shipper Review

AGENCY: Enforcement and Compliance, International Trade Administration, Department of Commerce.

SUMMARY: The Department of Commerce (the Department) is conducting a new shipper review (NSR) of the antidumping duty order on certain pasta (pasta) from Turkey. The NSR covers one exporter and producer of subject merchandise, Durum Gida Sanayi ve Ticaret A.S. (Durum). The period of review (POR) is July 1, 2014 through June 30, 2015. The Department preliminarily determines that Durum did not make a bona fide sale during the POR; therefore, we are preliminarily rescinding this NSR. Interested parties are invited to comment on the preliminary results of this review.

DATES: Effective July 15, 2016.

FOR FURTHER INFORMATION CONTACT: Fred Baker or Robert James, AD/CVD Operations, Office VI, Enforcement and Compliance, International Trade Administration, Department of Commerce, 1401 Constitution Avenue NW., Washington, DC 20230; telephone: (202) 482-2924 and (202) 482-0649, respectively.

SUPPLEMENTARY INFORMATION:

Background

On September 2, 2015, the Department published a notice of initiation of a new shipper review of the antidumping duty order on pasta from Turkey.¹ The Department subsequently issued initial and supplemental questionnaires to Durum, and received timely responses thereto.

¹ See Certain Pasta From Turkey: Initiation of Antidumping Duty New Shipper Review, 80 FR 53112 (September 2, 2015) (Initiation Notice).

The Department has exercised its discretion to toll all administrative deadlines due to the closure of the Federal Government because of Snowstorm “Jonas.” Thus, all of the deadlines in this segment of the proceeding were extended by four business days. The revised deadline for the preliminary results of this review, after the four business-day extension, was February 29, 2016.² However, on February 29, 2016, the Department extended the time period for issuing the preliminary results of this NSR by 106 days, until June 14, 2016.³ We extended it again by 14 days on June 8, 2016, until June 28, 2016.⁴

² See Memorandum to the Record from Ron Lorentzen, Acting Assistant Secretary for Enforcement & Compliance, regarding “Tolling of Administrative Deadlines as a Result of the Government Closure during Snowstorm Jonas,” dated January 27, 2016.

³ See Memorandum to Christian Marsh, Deputy Assistant Secretary for Antidumping and Countervailing Duty Operations, “Certain Pasta from Turkey: Extension of Deadline for Preliminary Results of Antidumping Duty New Shipper Review,” dated February 29, 2016.

⁴ See Memorandum to Christian Marsh, Deputy Assistant Secretary for Antidumping and Countervailing Duty Operations, “Certain Pasta from Turkey: Extension of Deadline for Preliminary Results of Antidumping Duty New Shipper Review,” dated June 8, 2016.

Scope of the Order

Imports covered by this review are shipments of certain non-egg dry pasta in packages of five pounds (2.27 kilograms) or less, whether or not enriched or fortified or containing milk or other optional ingredients such as chopped vegetables, vegetable purees, milk, gluten, diastases, vitamins, coloring and flavorings, and up to two percent egg white.

For a full description of the scope of the order, see the memorandum from Christian Marsh, Deputy Assistant Secretary for Antidumping and Countervailing Duty Operations, to Paul Piquado, Assistant Secretary for Enforcement and Compliance, “Decision Memorandum for Certain Pasta from Turkey: Preliminary Results of New Shipper Review” (Preliminary Decision Memorandum), which is dated concurrently with this notice, and is hereby incorporated by reference.⁵

⁵ A list of the topics discussed in the Preliminary Decision Memorandum appears in Appendix I of this notice.

Methodology

The Department is conducting this review in accordance with section 751(a)(2)(B) of the Tariff Act of 1930, as amended (the Act) and 19 CFR 351.214. For a full description of the methodology underlying our conclusions, see the Preliminary Decision Memorandum, which is hereby adopted by this notice. The Preliminary Decision Memorandum is a public document and is on file electronically via Enforcement and Compliance's Antidumping and Countervailing Duty Centralized Electronic Service System (ACCESS). ACCESS is available to registered users at http://access.trade.gov and is available in the Central Records Unit, Room B8024 of the main Department of Commerce building. In addition, a complete version of the Preliminary Decision Memorandum can be accessed directly at http://enforcement.trade.gov/frn/. The signed Preliminary Decision Memorandum and the electronic version of the Preliminary Decision Memorandum are identical in content.

Preliminary Rescission of the Antidumping New Shipper Review of Durum

As discussed in the Bona Fide Sales Analysis Memorandum,⁶ the Department preliminarily finds that the sale made by Durum serving as the basis for this review is not a bona fide sale. The Department reached this conclusion based on the totality of the circumstances surrounding the reported sale, including the sales price, the number of sales that Durum reported, the importer's inability to prove that it had received payment from its U.S. customers, and the fact that the record fails to establish that the U.S. importer realized a profit on its re-sale of the subject merchandise.

⁶ See Memorandum from Fred Baker, International Trade Analyst, Office VI AD/CVD Operations, to Scot Fullerton, Director, Office VI, AD/CVD Operations entitled “2014-2015 Antidumping Duty New Shipper Review of Certain Pasta From Turkey: Preliminary Bona Fide Sales Analysis for Durum Gida Sanayi ve Ticaret A.S.,” (Bona Fide Sales Analysis Memorandum) dated concurrently with and hereby adopted by this notice.

Because the non-bona fide sale was the only reported sale of subject merchandise during the POR, we find there are no reviewable transactions during this new shipper period of review. Accordingly, we are preliminarily rescinding this NSR.⁷ Because the factual information used in our bona fides analysis of Durum's sale involves business proprietary information, for a full discussion of the basis for our preliminary determination see the Bona Fide Sales Analysis Memorandum.

⁷ See 19 CFR 351.213(d)(3).

Public Comment

Interested parties may submit case briefs no later than 30 days after the date of publication of the preliminary results of review.⁸ Rebuttals to case briefs may be filed no later than five days after the briefs are filed. All rebuttal comments must be limited to comments raised in the case briefs.⁹

⁸ See 19 CFR 351.309(c).

⁹ See 19 CFR 351.309(d).

Interested parties who wish to request a hearing must submit a written request to the Assistant Secretary for Enforcement & Compliance, U.S. Department of Commerce, within 30 days after the date of publication of this notice.¹⁰ Requests should contain the party's name, address, and telephone number, the number of participants, and a list of the issues to be discussed. Oral argument presentations will be limited to issues raised in the briefs. If a request for a hearing is made, the Department intends to hold the hearing at the U.S. Department of Commerce, 14th Street and Constitution Avenue NW., Washington, DC 20230, at a date and time to be determined.¹¹ Parties should confirm by telephone the date, time, and location of the hearing two days before the scheduled date.

¹⁰ See 19 CFR 351.310(c).

¹¹ See 19 CFR 351.310(d).

All submissions, with limited exceptions, must be filed electronically using ACCESS. An electronically filed document must be received successfully in its entirety by the Department's electronic records system, ACCESS, by 5 p.m. Eastern Time (ET) on the due date. Documents excepted from the electronic submission requirements must be filed manually (i.e., in paper form) with the APO/Dockets Unit in Room 18022, and stamped with the date and time of receipt by 5 p.m. ET on the due date.¹²

¹² See Antidumping and Countervailing Duty Proceedings: Electronic Filing Procedures; Administrative Protective Order Procedures, 76 FR 39263 (July 6, 2011).

The Department intends to issue the final results of this NSR, which will include the results of its analysis of issues raised in any briefs received, no later than 90 days after the date these preliminary results of review are issued pursuant to section 751(a)(2)(B) of the Act.

Assessment Rates

If the Department proceeds to a final rescission of Durum's NSR, the assessment rate to which Durum's shipments will be subject will not be affected by this review. If the Department does not proceed to a final rescission of this new shipper review, pursuant to 19 CFR 351.212(b)(1), we will calculate importer-specific (or customer-specific) assessment rates based on the final results of this review.

Cash Deposit Requirements

Effective upon publication of the final rescission or the final results of this NSR, the Department will instruct CBP to discontinue the option of posting a bond or security in lieu of a cash deposit for entries of Durum's subject merchandise. If the Department proceeds to a final rescission of this NSR, Durum's cash deposit rate will continue to be the all-others rate. If the Department issues final results for this NSR, the Department will instruct CBP to collect cash deposits, effective upon the publication of the final results, at the rates established therein.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(2)(B) and 777(i)(1) of the Act.

Dated: June 28, 2016.
Paul Piquado,
Assistant Secretary for Enforcement and Compliance.

Appendix I

List of Sections in the Preliminary Decision Memorandum

1. Summary

2. Background

3. Scope of the Order

4. Discussion of the Methodology

5. Conclusion

[FR Doc. 2016-16694 Filed 7-14-16; 8:45 am]

BILLING CODE 3510-DS-P